DEPARTMENT OF AGRICULTURE

Animal and Plant Health Inspection Service

[Docket No. 99-024-1]

Privacy Act of 1974, as Amended; Systems of Records

AGENCY: Animal and Plant Health Inspection Service, USDA.

ACTION: Notice of revision of an existing Privacy Act System of Records.

SUMMARY: Pursuant to the provisions of the Privacy Act of 1974, as amended (5 U.S.C. 552a), the U.S. Department of Agriculture is updating three systems of records managed by the Animal and Plant Health Inspection Service. The systems of records being updated are: Plant Protection and Quarantine—Regulatory Actions; Veterinary Services—Animal Quarantine Regulatory Actions; and Veterinary Services—Animal Welfare and Horse Protection Regulatory Actions.

We are combining these three systems of records into one system: Investigative and Enforcement Records Regarding Regulatory Activities. We are also expanding routine uses of the new combined system of records, adding categories of records, and adding categories of individuals on whom we maintain records. In addition, we are changing the location of the new combined system of records, updating the authority for maintaining it, and changing some of the Animal and Plant Health Inspection Service's policies and practices for storing, retrieving, accessing, retaining, and disposing of records in the new combined system.

DATES: The changes covered by this notice will be effective on January 15, 2002.

We invite you to comment on this notice. We will consider all comments we receive that are postmarked by December 17, 2001. If we decide to make changes in this notice based on your comments, we will publish another notice in the Federal Register.

ADDRESSES: Please send your comment and three copies to: Docket No. 99-024-1, Regulatory Analysis and Development, PPD, APHIS, Suite 3C03, 4700 River Road, Unit 118, Riverdale, MD 20737-1238.

Please state that your comment refers to Docket No. 99-024-1.

You may read any comments that we receive on this docket in the APHIS reading room. The reading room is located in room 1141 of the USDA South Building, 14th Street and Independence Avenue, SW., Washington, DC. Normal reading room hours are 8 a.m. to 4:30 p.m., Monday through Friday, except holidays. To be sure someone is there to help you, please call (202) 690-2817.

APHIS documents published in the Federal Register, and related information, including the names of organizations and individuals who have commented on APHIS dockets, are available on the Internet at http://www.aphis.usda.gov/ppd/rad/webrepor.html.

FOR FURTHER INFORMATION CONTACT: Kimberly Pacheco, APHIS Privacy Act Officer, Legislative and Public Affairs, APHIS, 4700 River Road Unit 50, Riverdale, MD 20737-1232; (301) 734-4893.

SUPPLEMENTARY INFORMATION: In accordance with the Privacy Act of 1974, as amended (5 U.S.C. 552a) (Privacy Act), we must publish a notice in the Federal Register advising the public of changes to our systems of records. A system of records is a group of any records under the control of any agency, from which information is retrieved by the name of an individual or by some identifying number, symbol, or other identifying particular assigned to an individual.

The Animal and Plant Health Inspection Service (APHIS) must implement the Treasury Offset provisions of the Debt Collection Improvement Act of 1996 (Pub. L. 104-134, 110 Stat. 1321-358) (DCIA). To do this, we must update APHIS' systems of records to add a new routine use. At the same time, we are making various minor changes to APHIS' systems of records.

The Debt Collection Act of 1982, as amended (Pub. L. 97-365, 96 Stat. 1749), and the DCIA authorize the Federal government to collect delinquent debts owed to agencies by using administrative offset. Under the DCIA, APHIS must refer debts that are more than 180 days delinquent to the Treasury Offset Program (TOP). TOP requires all agencies to submit Taxpayer Identification Numbers (TIN's) for all debts referred. For individuals, the TIN is the person's social security number; for businesses, the TIN is the Employer Identification Number or assigned vendor number. When APHIS collects TIN's, we must notify creditors that we are collecting the TIN's for debt collection purposes. We must also notify creditors that we may disclose information about delinquent debtors to Treasury and other officials so the debts can be collected through administrative offset.

APHIS records debts owed to it in several systems of records. APHIS records a majority of debts in billings and collections systems maintained by the United States Department of Agriculture National Finance Center (NFC). We record debts for civil penalties in a separate system maintained by APHIS. We transmit a monthly summary of debt information to Administrative Billings and Collections (ABCO) at the NFC. This ensures that accounting records are accurate.

NFC updated its system of records, USDASS/OCFO-3, “Administrative Billings and Collections,” on November 10, 1997, by adding a new routine use to implement the Treasury Offset provisions of the DCIA (see 62 FR 47622-47623, September 10, 1997.) NFC refers most APHIS debts to TOP from the NFC ABCO system. APHIS debts referred to TOP in this way are covered by the NFC system of records. However, we want to refer debts for civil penalties directly to TOP.

APHIS currently has seven systems of records. Civil penalties could possibly be recorded in five of these systems. These systems are:

USDA-APHIS-1—Plant Protection and Quarantine—Regulatory Actions

USDA-APHIS-3—Veterinary Services—Animal Quarantine Regulatory Actions

USDA-APHIS-4—Animal Welfare and Horse Protection Regulatory Actions

USDA-APHIS-6—Brucellosis Information System and Brucellosis Recording and

Reporting System

USDA-APHIS-8—Veterinary Services—Animal Welfare

These systems of records need to be updated to account for debt records we send to TOP. We are updating three of the systems of records in this notice. The systems of records we are updating are those concerned with investigative and enforcement services. We will update the remaining two systems of records in a later notice.

As part of our update, we are combining USDA-APHIS-1, USDA-APHIS-3, and USDA-APHIS-4 into one system of records. The new combined system of records is known as USDA-APHIS-1—Investigative and Enforcement Records Regarding Regulatory Activities. Combining the systems of records brings all records concerning investigation and enforcement together. In addition, we are adding a new routine use—to refer debts to TOP. In connection with this new use, we are amending the new combined system of records to state that we collect TIN's and maintain data on individuals who are indebted to the Federal government and individuals whose debts are serviced by APHIS. Information includes names, addresses, amounts of indebtedness, amounts of current collections, and amounts of total billings. We are also amending the new combined system of records to state that we collect names of Investigative Enforcement Services investigators assigned to cases. Eventually, these records are transferred to a history file, which can be used to answer questions. We are also adding references to the Investigative and Enforcement Services (IES) Tracking System. The IES Tracking System is a computer database developed by APHIS.

Subsequent Notices

We will consider comments that are received within 60 days of publication of this notice in the Federal Register. If we receive any comments, we will publish another notice in the Federal Register. The notice will include a discussion of any comments we receive and any amendments we are making to the System of Records as a result of the comments.

Report on New System

A “Report on New System,” required by 5 U.S.C. 552a(r), as implemented by Transmittal Memoranda 1 and 3 to OMB Circular A-130, was sent to the Chairman, Committee on Governmental Affairs, United States Senate; the Chairman, Committee on Government Reform and Oversight, House of Representatives; and the Administrator, Office of Information and Regulatory Affairs, Office of Management and Budget, on November 9, 2001.

Done in Washington, DC, this 4th day of October 2001.
Ann M. Veneman,
Secretary of Agriculture.

USDA-APHIS-1

SYSTEM NAME:

Investigative and Enforcement Records Regarding Regulatory Activities, USDA/APHIS.

SYSTEM LOCATION:

Investigative and Enforcement Services (IES) Program, USDA, APHIS, 4700 River Road, Riverdale, MD 20737-1232. The electronic and paper files are maintained by IES Offices at headquarters and area offices. Hard copy files from which IES will compile its database will be kept on file at IES, 4700 River Road, Riverdale, MD, 20737-1232, and at APHIS regional IES offices in Raleigh, NC, and Fort Worth, TX. Addresses for the regional offices may be obtained from the Director, Investigative and Enforcement Services, 4700 River Road, Riverdale, MD, 20737-1232.

CATEGORIES OF INDIVIDUALS COVERED BY THE SYSTEM:

Violators, alleged violators, and witnesses of violations of plant protection and quarantine laws, animal quarantine laws, and animal welfare and horse protection laws; individuals who have outstanding civil penalties; individuals who are indebted to the Federal Government and whose debts are serviced by the Animal and Plant Health Inspection Service; and IES investigators assigned to cases.

CATEGORIES OF RECORDS IN THE SYSTEM:

The system consists of all paper and electronic investigative files on violators and alleged violators and contains copies of names and addresses, social security numbers or assigned vendor numbers, type of infraction, copies of violation reports, compliance agreements, witness statements, warning notices, Office of General Counsel recommendations to the Department of Justice (DOJ), court disposition documents, complaints, consent decision documents, decisions and orders, and the amount of civil penalties assessed by the Department. The automated Investigative and Enforcement Services Tracking System contains the name and address of each alleged violator, the tracking number assigned to the case, social security number or assigned vendor number, type of violation, names of witnesses, name of inspector, dates of actions taken, status of case, final decision, dollar amount of penalty, name of investigator, and sanction information.

AUTHORITY FOR MAINTENANCE OF THE SYSTEM:

7 U.S.C. 7701-7772; 21 U.S.C. 101-105, 111-134, 7 U.S.C. 2131 et seq.; 15 U.S.C. 1821 et seq.; 31 U.S.C. 3711-3719; the records in this system are used to issue bills and collect funds due to the Government in compliance with the Debt Collection Act of 1982, Pub.L. 97-365, 96 Stat. 1749, as amended by Pub.L. 98-167, 97 Stat. 1104, and the Debt Collection Improvement Act of 1996, Pub.L. 104-134, 110 Stat. 1321; and case management information in this system is used to monitor compliance with the Government Performance and Results Act of 1996.

ROUTINE USES OF RECORDS MAINTAINED IN THE SYSTEM, INCLUDING CATEGORIES OF USERS AND THE PURPOSES OF SUCH USES:

(1) Referral to other Federal, State, local or foreign investigative, prosecuting, or enforcement agencies, when information available indicates a violation or potential violation of law, general statute, particular program statute, rule, regulation or order, whether civil, criminal or regulatory in nature.

(2) Disclosure to the DOJ for use in litigation when: (a) The Agency, or any component thereof; or (b) any employee of the Agency or his or her official capacity where the Department of Justice has agreed to represent the employee; or (c) the United States Government, is a party to litigation or has an interest in such litigation; and by careful review, the Agency determines that the records are both relevant and necessary to the litigation and the use of such records by the DOJ is therefore deemed by the Agency to be for a purpose that is compatible with the purpose for which the records were collected.

(3) Disclosure to a court or adjudicative body in a proceeding when: (a) The Agency or any component thereof; or (b) any employee of the Agency in his or her official capacity; or (c) any employee of the Agency in his or her individual capacity where the Agency has agreed to represent the employee; or (d) the United States Government, is a party to litigation or has an interest in such litigation, and by careful review, the Agency determines that the records are both relevant and necessary to the litigation and the use of such records is therefore deemed by the Agency to be for a purpose that is compatible with the purpose for which the Agency collected the records.

(4) Disclosure may be made to a congressional office from the record of an individual in response to an inquiry from the congressional office made at the request of that individual.

(5) Information contained in this system of records may be disclosed to a debt collection agency when USDA determines such referral is appropriate for collecting the debtor's account as provided for in US Government contracts with collection agencies executed pursuant to 31 U.S.C. 3718.

(6) Where prior collection efforts have failed, the USDA will refer to the Department of the Treasury information from this system of records concerning past due legally enforceable debts for offset against tax refunds that may become due the debtors for the tax year in which referral is made in accordance with IRS regulations at 26 CFR 301.6402-6T, offset of past-due Legally Enforceable Debt Against Overpayment, and under the authority contained in 31 U.S.C. 3720A

(7) Information contained in this system of records may be disclosed to a consumer reporting agency in accordance with 31 U.S.C. 3711(f).

(8) Information contained in this system of records, related to non-tax debts or claims that are delinquent for 180 days, will be sent to the Department of the Treasury or to other Federal agencies designated by the Secretary of the Treasury for the purpose of offsetting Federal payments to collect delinquent debts, owed to the Federal Government. Records will be matched by Taxpayer Identification Number (TIN) and name. For an individual, the TIN is the social security number. For a business, the TIN is the Employer Identification Number. The release of this information is in accordance with 31 U.S.C. 3716 and 4 CFR part 102.

POLICIES AND PRACTICES FOR STORING, RETRIEVING, ACCESSING, RETAINING, AND DISPOSING OF RECORDS IN THE SYSTEM:

STORAGE:

Case files are maintained in file folders in file drawers, computer printouts, magnetic tape, and in the databases in the Investigative and Enforcement Services Tracking System.

RETRIEVABILITY:

Records can be accessed by alleged violator's name, name of business if other than alleged violator's name, and violation case number.

Safeguards:

Records, both paper and electronic, are accessible only to authorized personnel. Multiple security measures are in place to prevent outsiders from entering the system.

Retention and disposal:

Records are transferred to the Federal Records Center for storage and disposition in accordance with General Services Administration regulations. Master history and magnetic tapes are retained in accordance with tape library management schedule.

System manager(s) and address:

Director, Investigative and Enforcement Services, USDA, APHIS, 4700 River Road, Riverdale, MD 20737-1232.

Notification procedure:

Any individual may request information regarding this system of records or request information on whether the system contains records pertaining to him/her from the system manager. A request for information pertaining to an individual should be in writing and should contain: name, address, social security number or assigned vendor number, and particulars involved.

Record access procedures:

Any individual may obtain information from a record in the system which pertains to him/her by submitting a written request to the Privacy Act Officer, LPA, USDA, APHIS, 4700 River Road, Riverdale, MD, 20737-1232.

Contesting record procedures:

Any individual may contest information contained within a record in the system which pertains to him/her by submitting a written request to the system manager.

RECORD SOURCE CATEGORIES:

Information in this system comes primarily from USDA employees or other investigative personnel.

EXEMPTIONS CLAIMED FOR THE SYSTEM:

This system has been exempted pursuant to 5 U.S.C. 552(a)(k)(2) from the requirements of 5 U.S.C. 552a(c)(3), (d), (e)(1), (e)(4)(G), (H), and (I) and (f). See 7 CFR 1.23. Individual access to these records would impair investigations and alert subjects of investigations that their activities are being scrutinized, and thus allow them time to take measures to prevent detection of illegal action to escape prosecution. Any individual who believes, however, that he or she has been denied any right, privilege or benefit for which he or she would otherwise be eligible as a result of the maintenance of such material may request access to the material. Such requests should be addressed to the APHIS Privacy Act Officer, LPA, USDA, APHIS, 4700 River Road, Riverdale, MD 20737-1232.

[FR Doc. 01-28727 Filed 11-15-01; 8:45 am]

BILLING CODE 3410-34-U